DEPARTMENT OF AGRICULTURE

Agricultural Marketing Service

[Doc. No AMS-FGIS-24-0077]

Certification of Delegated Authority for Virginia and Wisconsin and Designation Awards for the Geographic Areas of Evansville, Indiana; Lower Northwest Texas; Marshall, Michigan; Pocatello, Idaho; Southeast Texas; Virginia; and West Sacramento, California

AGENCY: Agricultural Marketing Service, USDA.

ACTION: Notice.

SUMMARY: The Agricultural Marketing Service (AMS) is announcing the certification of the Virginia Department of Agriculture and Consumer Services and the Wisconsin Department of Agriculture, Trade and Consumer Protection to provide official services pursuant to a delegation of authority under the United States Grain Standards Act (USGSA or Act), as amended. AMS is also announcing the designation of official agencies to provide official services (at other than export port locations) in the geographic areas listed in Table 2, below.

FOR FURTHER INFORMATION CONTACT: Ronald White, Compliance Officer, Telephone 419-304-7132; Email: Ronald.L.White@usda.gov or FGISQACD@usda.gov.

SUPPLEMENTARY INFORMATION:

I. Certification of Delegated State Agencies

This notice announces AMS's certification that the Virginia Department of Agriculture and Consumer Services is meeting the criteria required to perform official services at export port locations in the state of Virginia. It also announces that the Wisconsin Department of Agriculture, Trade and Consumer Protection is meeting the criteria required to perform official services at export port locations in Wisconsin and at export port locations at the Port of Duluth in Minnesota.¹ The USGSA (7 U.S.C. 79(e)) requires the Secretary of Agriculture (Secretary) to certify, every five years, that each state agency with a delegation of authority is meeting the criteria for carrying out export inspections on behalf of the Secretary (7 U.S.C. 79(f)(1)(A)). Under the certification process prescribed by the statute, the Secretary must: (1) publish in the Federal Register a notice of intent to certify a state agency and provide a 30-day period for public comment; (2) evaluate the public comments received and, in accordance with section 79(e)(3) of the Act, conduct an investigation to determine whether the state agency is qualified; (3) make findings based on the public comments received and the investigation conducted; and (4) publish a notice in the Federal Register announcing whether the certification has been granted and describing the basis on which the Secretary made the decision.

¹ The Wisconsin Department of Agriculture, Trade and Consumer Protection provides official inspection and weighing services at export locations at the Port of Duluth in Minnesota under special agreement.

For more information about the delegation and certification processes, please see 7 CFR 800.195. Table 1 provides relevant information about the delegations of authority to the Virginia and Wisconsin state agencies to perform official services at export port locations.

Table 1—Delegated State Agencies Providing Services at Export Port Locations
State agency | Geographic area | Delegation area descriptions
Virginia Department of Agriculture and Consumer Services, Richmond, VA, 757-494-2455 | Richmond, VA | 88 FR 19051 (3/30/2023).
Wisconsin Department of Agriculture, Trade and Consumer Protection, Superior, WI, 715-392-7854 | Superior, WI Duluth, MN | 88 FR 19051; (3/30/2023).

A. Virginia Department of Agriculture and Consumer Services

AMS published a notice of intent to certify the Virginia Department of Agriculture and Consumer Services in the March 30, 2023, edition of the Federal Register (88 FR 19051). This notice included a request for comments on the quality of services the state agency provided at export port locations in Virginia. Comments were due 30 days after the date of publication.

AMS did not receive any negative comments regarding the state agency's performance. In the absence thereof, AMS reviewed and considered performance feedback and data that it collected on the state agency (e.g., grading accuracy, equipment testing, equipment monitoring, and adherence to testing protocols for mycotoxins and falling number values) and conducted an onsite compliance review. The compliance review evaluated the state agency's ability to: (1) provide timely, accurate, and non-discriminatory services (issuance of certificates); (2) implement a quality assurance program; (3) conduct routine testing of equipment and scales; (4) designate a qualified manager to oversee the execution of these required duties; and (5) meet other requirements as specified in section 79(f)(1)(A) of the USGSA.

AMS also conducted an investigation to determine whether the Virginia state agency is qualified to perform official services under section 79(e)(3) of the USGSA. Pursuant to this section, AMS consulted with USDA's Office of Inspector General (OIG), the Department of Justice (DOJ), and the Government Accountability Office (GAO).² Neither the compliance review nor the consultations produced findings that would negatively impact the Virginia state agency's ability to perform official services at export port locations. Accordingly, AMS certifies that the Virginia Department of Agriculture and Consumer Services is meeting the criteria required to perform official services at export port locations in Virginia.

² GAO advised that it does not have authority over state agencies and was unable to provide relevant information.

B. Wisconsin Department of Agriculture, Trade and Consumer Protection

AMS published a notice of intent to certify the Wisconsin Department of Agriculture, Trade and Consumer Protection in the March 30, 2023, edition of the Federal Register (88 FR 19051). This notice included a request for comments on the quality of services the state agency provided at export port locations. Comments were due 30 days after the date of publication.

AMS did not receive any negative comments regarding the state agency's performance. In the absence thereof, AMS reviewed and considered performance feedback and data that it collected on the state agency (e.g., grading accuracy, equipment testing, equipment monitoring, and adherence to testing protocols for mycotoxins and falling number values) and conducted an onsite compliance review. The compliance review evaluated the state agency's ability to: (1) provide timely, accurate, and non-discriminatory services (issuance of certificates); (2) implement a quality assurance program; (3) conduct routine testing of equipment and scales; (4) designate a qualified manager to oversee the execution of these required duties; and (5) meet other requirements as specified in section 79(f)(1)(A) of the USGSA.

AMS also conducted an investigation to determine whether the Wisconsin state agency is qualified to perform official services under section 79(e)(3) of the USGSA. Pursuant to this section, AMS consulted with USDA's OIG, DOJ, and GAO. Neither the compliance review nor the consultations produced findings that would negatively impact the Wisconsin state agency's ability to perform official services at export port locations. Accordingly, AMS certifies that the Wisconsin State Department of Agriculture, Trade and Consumer Protection is meeting the criteria required to provide official services at export port locations in Wisconsin and the Port of Duluth in Minnesota.

II. Designation of Official Agencies

This notice announces AMS's designation of certain official agencies, or the renewal of their designation, to provide official services at locations other than export port locations (See Table 2). Section 79(f) of the USGSA authorizes the Secretary to designate a qualified applicant to provide official services in a specified area after determining that the applicant is better able than any other applicant to provide such official services. A designated agency may provide official inspection services and/or Class X or Class Y weighing services at locations other than export port locations. Under section 79(g) of the USGSA, designations of official agencies are effective for no longer than five years but may be renewed according to the criteria and procedures prescribed in section 79(f) of the Act. For more information about the designation process, please see 7 CFR 800.196. To view the applications for these areas, please contact FGISQACD@usda.gov.

Table 2—Designated Official Agencies Providing Services at Other Than Export Ports
Official agency | Geographic area | Designation award area descriptions | Designation start | Designation end
Ohio Valley Grain Inspection, Inc., Evansville, Indiana, 812-423-9010 | Evansville, IN | 80 FR 37581 (07/01/2015) | 10/01/2023 | 07/31/2025
Michigan Grain Inspection Services, Inc., Marshall, Michigan, 312-823-6318 | Marshall, MI | 81 FR 17428, (03/29/2016) | 04/01/2024 | 03/31/2027
Plainview Grain Inspection and Weighing Service, Inc., Plainview, TX, 806-293-1364 | Lower Northwest TX | 89 FR 58327 (07/18/2024) | 12/01/2024 | 03/31/2027
Virginia Department of Agriculture and Consumer Services, Richmond, Virginia, 757-494-2455 | Richmond, VA | 88 FR 37580, (07/01/2015) | 01/01/2024 | 12/31/2027
Midsouth Grain Inspection Service, Memphis, Tennessee, 870-270-0769 | Southeast TX | 89 FR 58327 (07/18/2024) | 03/01/2025 | 03/31/2028
Idaho Grain Inspection Service, Inc., Pocatello, Idaho, 208-233-8303 | Pocatello, ID | 80 FR 37581 (07/01/2015) | 10/01/2022 | 09/30/2028
California Agri Inspection Company, Ltd., West Sacramento, California, 916-374-9700 | West Sacramento, CA | 88 FR 37580 (07/01/2015) | 01/01/2024 | 12/31/2028

AMS sought applications from interested private and state entities to provide official inspection and weighing services in the geographic areas listed in Tables 2 and 3. AMS also requested comments on the services provided by the official agencies. The requests were published in the Federal Register, and each offered a 30-day comment period from the publication date. AMS did not receive any negative comments regarding the performance of the official agencies. Table 3, below, identifies the editions of the Federal Register in which AMS provided notice of the designation opportunities for the listed geographic areas and requested comments on the listed official agencies.

Table 3—Federal Register Notices Announcing Opportunities for Geographic Areas and Requesting Comments
Official agency | Geographic area | Federal Register
Idaho Grain Inspection Service, Inc | Pocatello, Idaho | 88 FR 19051 (03/30/2023).
Ohio Valley Grain Inspection, Inc | Evansville, Indiana | 88 FR 19051 (03/30/2023).
California Agri Inspection Company, Ltd | West Sacramento, California | 88 FR 19051 (03/30/2023).
Virginia Department of Agriculture and Consumer Services | Richmond, Virginia | 88 FR 19051 (03/30/2023).
Michigan Grain Inspection Services, Inc | Marshall, Michigan | 88 FR 78283 (11/15/2023).
Midsouth Grain Inspection Service ³ | Southeast Texas Area | 89 FR 58327 (07/18/2024); 89 FR 75526 (09/16/2024).
Plainview Grain Inspection and Weighing Service, Inc ⁴ | Lower Northwest Texas Area | 89 FR 58327 (07/18/2024); 88 FR 78283 (11/15/2023).
³ There are two Federal Register citations in this row of Table 3 because AMS announced the designation opportunity in Southeast Texas in a different edition of the Federal Register (89 FR 58327) than the edition in which the agency requested comments on services provided by Midsouth Grain Inspection Service (89 FR 75526).
⁴ There are two Federal Register citations in this row of Table 3 because AMS announced the designation opportunity in Lower Northwest Texas in a different edition of the Federal Register (89 FR 58327) than the edition in which the agency requested comments on services provided by Plainview Grain Inspection and Weighing Service, Inc. (88 FR 78283).

AMS reviewed and considered performance feedback and data that it collected on the designated agencies (e.g., grading accuracy, equipment testing, equipment monitoring, and adherence to testing protocols for mycotoxins and falling number values) and conducted onsite compliance reviews. As part of these reviews, AMS evaluated: (1) the agencies' past compliance and supervision audit results; (2) quality program performance; (3) stability, quality, and consistency of service; (4) cooperation with FGIS; (5) adequacy of resources; (6) timely service and issuance of certificates; and (7) cost of inspection services. If instances of noncompliance were found, agencies were required to correct the issues before their performance review was finalized.

The official agencies listed in Tables 2 and 3 were the only applicants for designation in those geographic areas, with the exception of the Southeast Texas area. In the July 18, 2024 Federal Register (89 FR 58327), AMS requested comments about the need for USGSA inspection and weighing services in the Southeast Texas area as well as applications for designation to provide official services in that area. AMS received designation applications from Midsouth Grain Inspection Service (Midsouth) and Grain Inspection Services of Texas (GIST). In the September 16, 2024, edition of the Federal Register, AMS requested comments on both applicants. Midsouth is currently a designated official agency in good standing with AMS and the industry, with over 45 years of experience as an official agency. GIST is currently a designated official agency in good standing with AMS and the industry with less than one year of experience as an official agency.

In analyzing applications for the Southeast Texas area, AMS evaluated applicants by considering the designation criteria in Section 79(f) of the USGSA (7 U.S.C. 79(f)), the recent audit report for Midsouth detailing the applicant's performance of the designation criteria, customers' experience with the official service provider, public comments received related to the designation opportunity notice (89 FR 75526), current service agreements, and details provided in the application. Applications generally include information on an applicant's business plan to service the area, active licenses and service availability, fees, overall service costs, and proximity to customers and facilities. Midsouth meets the designation criteria established under the USGSA and is operating with comparable costs for most service requests. GIST is a new entity with less than one year of experience as an official agency. After considering all of the available information concerning both agencies, AMS determined that the Southeast Texas area should be awarded to Midsouth at this time.

Melissa Bailey,
Associate Administrator, Agricultural Marketing Service.

[FR Doc. 2025-07128 Filed 4-24-25; 8:45 am]

BILLING CODE P